DEPARTMENT OF HEALTH AND HUMAN SERVICES

Centers for Disease Control and Prevention

[30Day-22-21GB]

Agency Forms Undergoing Paperwork Reduction Act Review

In accordance with the Paperwork Reduction Act of 1995, the Centers for Disease Control and Prevention (CDC) has submitted the information collection request titled “Program Evaluation of CDC's Core State Injury Prevention Program” to the Office of Management and Budget (OMB) for review and approval. CDC previously published a “Proposed Data Collection Submitted for Public Comment and Recommendations” notice on June 10, 2021 to obtain comments from the public and affected agencies. CDC received three anonymous comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Program Evaluation of CDC's Core State Injury Prevention Program—New—National Center for Injury Prevention and Comtrol (NCIPC), Centers for Disease Control and Prevention (CDC).

Background and Brief Description

NCIPC is requesting approval to collect information from awardees funded under the Core State Injury Prevention Program cooperative agreement, hereafter known as Core SIPP. This program is a new initiative. As part of the annual program evaluation data collection, recipients will submit data on enhancements in program implementation capacity, leveraged resources/funds through economic indicators, and challenges and successes, programmatic improvements, and impact through interviews. Finally, awardees will annually submit injury and violence prevention surveillance data using Excel-based Injury Indicator Spreadsheets and Special Emphasis Reports.

Information to be collected will provide crucial data for program evaluation and provide CDC with the ability to respond in a timely manner to requests for information about the program from the Department of Health and Human Services (HHS), the White House, Congress, and others. Data from the collection will also be used by CDC to increase capacity, understand how the cooperative agreement increases potential sustainability though improved capacity, provide data-driven technical assistance, and disseminate the most current surveillance data on unintentional and intentional injuries.

Authority for CDC's National Center for Injury Prevention and Control (NCIPC) to collect these data is granted by Section 301 of the Public Health Service Act (42 U.S.C. 241). This Act gives federal health agencies, such as CDC, broad authority to collect data and to participate in other public health activities, including program implementation evaluation. The Core SIPP evaluation will collect several types of information from recipients over the course of the funding cycle. This information will be used to:

(1) Evaluate and track outcomes at the recipient- and program-levels as they relate to injury prevention-focused infrastructure development, surveillance system development and use, and partnerships, to prevent Adverse Childhood Experiences (ACEs), Traumatic Brain Injury (TBI), and transportation-related injuries. Recipient-and program-level identification of disproportionately affected populations and subsequent public health actions taken to address injury-related health disparities will also be assessed.

(2) Identify technical assistance needs of individual recipients and this recipient cohort, so that the CDC team can appropriately deploy resources to support recipients.

(3) Identify practice-based evidence for injury prevention public health actions to advance the field through future partnerships, program design, and publications.

(4) Inform continuous quality improvement activities over the course of the funding period, to include quarterly and annual strategic planning for current and later iterations of this program under future funding.

CDC requests approval for 679 total estimated annualized burden hours. There is no cost to respondents other than their time.

Estimated Annualized Burden Hours
Type of respondents | Form name | Number of respondents | Number of responses per respondent | Average burden per response (in hours)
Core SIPP Program Awardees | Implementation Capacity Development Rubric | 23 | 1 | 2
| Economic Indicators | 23 | 1 | 1
| Recipient-level Group Interviews | 23 | 1 | 1.5
| Injury Indicators Spreadsheet | 23 | 1 | 5
| Emergency Department Injury Indicators Spreadsheet | 23 | 1 | 5
| Hospital Discharge Injury Indicators Spreadsheet | 23 | 1 | 5
| Special Emphasis Reports | 23 | 1 | 10

Jeffrey M. Zirger,
Lead,Information Collection Review Office, Office of Scientific Integrity, Office of Science, Centers for Disease Control and Prevention.

[FR Doc. 2021-23554 Filed 10-28-21; 8:45 am]

BILLING CODE 4163-18-P